EXECUTIVE OFFICE OF THE PRESIDENT

Office of National Drug Control Policy

Paperwork Reduction Act; Proposed Collection; Comment Request

AGENCY: Office of National Drug Control Policy.

ACTION: 60-Day notice and request for comments. Revisions of Currently Approved Collection: Drug-Free Communities Support Program National Evaluation.

SUMMARY: In accordance with the Paperwork Reduction Act of 1995, the Office of National Drug Control Policy (ONDCP) announces it will submit to the Office of Management and Budget (OMB) and Office of Information and Regulatory Affairs (OIRA) an information collection request.

DATES: ONDCP encourages and will accept public comments on or before 60 days after the date of this publication.

ADDRESSES: Address all comments in writing within 60 days to Helen Hernandez. Email is the most reliable means of communication. Ms. Hernandez's email address is HHernandez@ondcp.eop.gov. Mailing address is: Executive Office of the President, Office of National Drug Control Policy, Drug-Free Communities (DFC) Support Program, 1800 G Street NW, Suite 9110, Washington, DC 20006. Copies of documents submitted to OMB and other information is available from Ms. Hernandez who may be contacted at 202-395-6665.

SUPPLEMENTARY INFORMATION:

Abstract: ONDCP administers the Drug-Free Communities (DFC) Support Program and Community-Based Coalition Enhancement Grants to Address Local Drug Crisis (CARA Local Drug Crisis) Programs. The DFC Program has two primary goals: To reduce youth substance abuse, and to support community anti-drug coalitions by establishing, strengthening, and fostering collaboration among public and private agencies. The CARA Local Drug Crisis grant program funds current or former DFC grant award recipients to focus on preventing and reducing the abuse of opioids or methamphetamines and the abuse of prescription medications among youth ages 12-18 in communities throughout the United States.

Congress mandates an evaluation of the DFC program to determine its effectiveness in meeting objectives (see 21 U.S.C. 1521 et al.). Under the CARA Local Drug Crisis program statute, CARA Local Drug Crisis data collection is authorized and required by Public Law 114-198 Sec 103, “a grant under this section shall be subject to the same evaluation requirements and procedures as the evaluation requirements and procedures imposed on the recipients of a grant under the Drug-Free Communities Act of 1997, and may also include an evaluation of the effectiveness at reducing abuse of opioids or methamphetamines”. ONDCP awarded a contract for a DFC grant oversight system at the end of 2014, following a competitive request for proposals process. The DFC Management and Evaluation (DFC Me) system was launched in 2016 and continues to be used (www.dfcme.ondcp.eop.gov). The development and implementation of the new DFC Me system provided an improved platform for DFC recipients to meet data reporting requirements of the grant, introduced a DFC Learning Center where resources and success stories can be shared, and strengthened ONDCP's continued oversight of the DFC program. The data collected through this system is more user friendly and validates data during entry, therefore reducing the burden on grant award recipients.

ONDCP's Drug-Free Communities office will continue to utilize the case study protocols previously approved by OMB to document coalition practices, successes and challenges. Approximately nine DFC grant award recipients are selected each year to highlight in the case studies. The information from the case studies will be used to illustrate not only what works to reduce drug use in a community setting, but also how and why it works.

The CARA Local Drug Crisis program evaluation will make use of the monitoring and tracking questionnaire to serve as a semi-annual report for grant award recipients and will provide information to ONDCP and the Administration's effort to address the opioid crisis.

Title of Information Collection: Web-based data collection, surveys and interviews of DFC and CARA Local Drug Crisis grant award recipients.

Title: Drug-Free Communities (DFC) Support Program National Evaluation.

Frequency: Semi-annual Progress Reports by DFC Program Directors via DFC Me, and annually for DFC Program Directors and selected coalition members via the Coalition Classification Tool (CCT). Core measures are collected and submitted every two years in Progress Reports. Case study interviews and electronic surveys of Program Directors and electronic surveys of selected coalition members will be accomplished once a year.

Affected Public: DFC current grant award recipients and CARA Local Drug Crisis grant award recipients (includes both current and former DFC grant award recipients).

Estimated Burden: ONDCP expects that the time required to complete each semi-annual report via DFC Me will be approximately six hours, and each CCT report will take approximately one hour to complete. Face to face interviews will take 1-2 hours. The estimated total amount of time required by all respondents over one year, including Program Directors and recipients to complete DFC Me, CCT, surveys, and interviews, is 9,833 hours.

Goals: ONDCP intends to use the data of the DFC National Evaluation to assess the DFC Program's effectiveness in preventing and reducing youth substance use. Two primary objectives of the evaluation are to: (1) Regularly monitor, measure and analyze data in order to report on the progress of the DFC program and its recipients on program goals, and (2) providing technical assistance support to DFC grant award recipients in effectively collecting and submitting data and in understanding the role of data in driving local coalition efforts. ONDCP intends to use the data of the DFC National Evaluation to assess CARA Local Drug Crisis grant award recipients effectiveness and inform ONDCP and the Administration's efforts to address the opioid crisis.

Comment Request: ONDCP especially invites comments on: Whether the proposed data are proper for the functions of the agency; whether the information will have practical utility; the accuracy of ONDCP's estimate of the burden of the proposed collection of information, including the validity of the methodology and assumptions; ways to enhance the quality, utility, and clarity of the information to be collected; and, ways to ease the burden on proposed respondents, including the use of automated collection techniques or other forms of information technology. Comments will be accepted for sixty days.

Dated: May 6, 2019.
Michael Passante,
Acting General Counsel.

[FR Doc. 2019-09553 Filed 5-8-19; 8:45 am]

BILLING CODE 3280-F5-P